DEPARTMENT OF TRANSPORTATION

Federal Aviation Administration

14 CFR Part 39

[Docket No. FAA-2018-0771; Product Identifier 2018-CE-029-AD]

RIN 2120-AA64

Airworthiness Directives; GA 8 Airvan (Pty) Ltd Airplanes

AGENCY: Federal Aviation Administration (FAA), Department of Transportation (DOT).

ACTION: Notice of proposed rulemaking (NPRM).

SUMMARY: We propose to adopt a new airworthiness directive (AD) for GA 8 Airvan (Pty) Ltd Models GA8 and GA8-TC320 airplanes. This proposed AD results from mandatory continuing airworthiness information (MCAI) originated by an aviation authority of another country to identify and correct an unsafe condition on an aviation product. The MCAI describes the unsafe condition as certain wing strut fittings manufactured with incorrect grain orientation, which has an unknown effect on fatigue related concerns. We are issuing this proposed AD to require actions to address the unsafe condition on these products.

DATES: We must receive comments on this proposed AD by November 1, 2018.

ADDRESSES: You may send comments by any of the following methods:

• Federal eRulemaking Portal: Go to http://www.regulations.gov. Follow the instructions for submitting comments.

• Fax: (202) 493-2251.

• Mail: U.S. Department of Transportation, Docket Operations,M-30, West Building Ground Floor, Room W12-140, 1200 New Jersey Avenue SE, Washington, DC 20590.

• Hand Delivery: U.S. Department of Transportation, Docket Operations,M-30, West Building Ground Floor, Room W12-140, 1200 New Jersey Avenue SE, Washington, DC 20590, between 9 a.m. and 5 p.m., Monday through Friday, except Federal holidays.

For service information identified in this proposed AD, contact GA 8 Airvan (Pty) Ltd, c/o GippsAero Pty Ltd, Attn: Technical Services, P.O. Box 881, Morwell Victoria 3840, Australia; telephone: +61 03 5172 1200; fax: +61 03 5172 1201; email: aircraft.techpubs@mahindraaerospace.com. You may review this referenced service information at the FAA, Policy and Innovation Division, 901 Locust, Kansas City, Missouri 64106. For information on the availability of this material at the FAA, call (816) 329-4148.

Examining the AD Docket

You may examine the AD docket on the internet at http://www.regulations.gov by searching for and locating Docket No. FAA-2018-0771; or in person at Docket Operations between 9 a.m. and 5 p.m., Monday through Friday, except Federal holidays. The AD docket contains this proposed AD, the regulatory evaluation, any comments received, and other information. The street address for Docket Operations (telephone (800) 647-5527) is in the ADDRESSES section. Comments will be available in the AD docket shortly after receipt.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Comments Invited

We invite you to send any written relevant data, views, or arguments about this proposed AD. Send your comments to an address listed under the ADDRESSES section. Include “Docket No. FAA-2018-0771; Product Identifier 2018-CE-029-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The Civil Aviation Safety Authority (CASA), which is the aviation authority for Australia, has issued AD No. AD/GA8/9, Amendment 1, dated May 29, 2018 (referred to after this as “the MCAI”), to correct an unsafe condition for the specified products. The MCAI states:

Amendment 1 of this [CASA] AD is issued to amend the replacement times as Service Bulletin GA8-2017-174 Issue 2 changed the mandatory replacement times for part number GA8-570026-035 strut from 6000 hours time in service or 3 calendar years to 9000 hours time in service or 5 calendar years, whichever occurs first.

A manufacturing quality escape has resulted in wing strut fittings in the effective serial number range to be manufactured with incorrect grain orientation. The fatigue implications of the incorrect grain are not well understood. Therefore, CASA has mandated a conservative factored fatigue life limit based on the known fleet data of the affected aircraft. CASA will continue to gather data for the purposes of managing the fleet removal of these fittings from service.

You may examine the MCAI on the internet at http://www.regulations.gov by searching for and locating Docket No. FAA-2018-0771.

Related Service Information Under 1 CFR Part 51

GippsAero has issued Service Bulletin SB-GA8-2017-174, Issue 2, dated May 23, 2018. The service information describes procedures for wing strut and strut fitting inspection and replacement. This service information is reasonably available because the interested parties have access to it through their normal course of business or by the means identified in the ADDRESSES section.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD would affect 50 airplanes of U.S. registry. The average labor rate is $85 per work-hour.

We estimate that it would take about 8 work-hours and $200 for parts to do the initial inspections of this proposed AD, for a cost of $880 per airplane and $44,000 for the U.S. operator fleet. We estimate that it would take about 5 work-hours and $200 for parts to do the repetitive inspections, for a cost of $625 per airplane and $31,250 for the U.S. operator fleet per inspection cycle.

In addition, we estimate that replacing the struts and strut fittings would take about 10 work-hours and require parts costing $7,000, for a cost of $7,850 per airplane and $392,500 for the U.S. operator fleet.

Reporting the inspection findings would require about 1 work-hour, for a cost of $85 per airplane and $4,250 for the U.S. operator fleet per inspection cycle.

According to the manufacturer, some of the costs of this proposed AD may be covered under warranty, thereby reducing the cost impact on affected individuals. We do not control warranty coverage for affected individuals. As a result, we have included all costs in our cost estimate.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory as required by this AD; the nature and extent of confidentiality to be provided, if any. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

GA 8 Airvan (Pty) Ltd: Docket No. FAA-2018-0771; Product Identifier 2018-CE-029-AD.

(a) Comments Due Date

We must receive comments by November 1, 2018.

(b) Affected ADs

None.

(c) Applicability

This AD applies to GA 8 Airvan (Pty) Ltd Models GA8 and GA8-TC320 airplanes, certificated in any category, with a strut or strut fitting installed that has a part number and serial number listed in table 1 of GippsAero Service Bulletin SB-GA8-2017-174, Issue 2, dated May 23, 2018 (GippsAero SB-GA8-2017-174, Issue 2).

(d) Subject

Air Transport Association of America (ATA) Code 57: Wings.

(e) Reason

This AD was prompted by mandatory continuing airworthiness information (MCAI) issued by the aviation authority of another country to identify and correct an unsafe condition on an aviation product. The MCAI describes the unsafe condition as certain wing strut fittings manufactured with incorrect grain orientation, which has an unknown effect on fatigue-related concerns. We are issuing this AD to detect and address fatigue-related damage to the wing strut fittings, which could lead to failure of the wing with consequent loss of control of the airplane.

(f) Actions and Compliance

Unless already done, do the following actions in paragraphs (f)(1) through (6) of this AD:

(1) Within 3 months after the effective date of this AD or within 100 hours time-in-service (TIS) after the effective date of this AD, whichever occurs first, with the wing struts removed, visually inspect each forward and aft wing strut fitting and fuselage attachment point for cracks, corrosion, and damage. If a crack, corrosion, or damage is found during the inspection, before further flight, do the applicable corrective actions (check torque, restore surface protection, rework areas with fouling, and replace any part with a crack, corrosion, or damage). Follow the procedures in Parts C1, C2, and D or E, as applicable, in the Accomplishment Instructions in GippsAero SB-GA8-2017-174, Issue 2.

(2) Within 3 months after the effective date of this AD or within 100 hours TIS after the effective date of this AD, whichever occurs first, and thereafter at intervals not to exceed 100 hours TIS, visually inspect each strut and strut fitting for cracks, corrosion, and damage. If a crack, corrosion, or damage is found during any of the inspections, before further flight, do the applicable corrective actions (check torque, restore surface protection, and replace any part with a crack, corrosion, or damage). Follow the procedures in Parts B and D or E, as applicable, in the Accomplishment Instructions of GippsAero SB-GA8-2017-174, Issue 2.

(3) Within 1,000 hours TIS after doing the inspections required in paragraph (f)(1) of this AD and thereafter at intervals not to exceed 1,000 hours TIS, with the wing struts installed, visually inspect each forward and aft wing strut, strut fitting, and strut fitting lug hole for cracks, corrosion, and damage. If a crack, corrosion, or damage is found during any of the inspections, before further flight, do the applicable corrective actions (do additional inspections, replace hardware, and replace any part with a crack, corrosion, or damage). Follow the procedures in Parts C3 and D or E, as applicable, in the Accomplishment Instructions of GippsAero SB-GA8-2017-174, Issue 2.

(4) To use an eddy current or fluorescent liquid penetrant inspection method instead of a visual inspection for the requirements in paragraphs (f)(1) of this AD, the Manager, Small Airplane Standards Branch, FAA must approve your inspection method, and the Manager's approval letter must specifically refer to this AD. Send your approval request to the contact information found in paragraph (g)(1) of this AD.

(5) Remove from service each part listed in Parts D and E of table 3 on or before the part exceeds its specified replacement time and replace with an airworthy part. On the effective date of this AD, any part listed in table 3 of GippsAero SB-GA8-2017-174, Issue 2, that has exceeded its replacement time, within 100 hours TIS after the effective date of this AD or within 12 months after the effective date of this AD, whichever occurs first, remove the part from service and replace with an airworthy part. Follow the replacement procedures in Part D or Part E, as applicable, in the Accomplishment Instructions of GippsAero SB-GA8-2017-174, Issue 2.

(6) Within 24 hours after each inspection required in paragraphs (f)(1) and (2) of this AD, submit a report of the inspection results, even if no damage is found, to the Civil Aviation Safety Authority (CASA) and GA 8 Airvan (Pty) Ltd. Use the Document Compliance Notice of GippsAero SB-GA8-2017-174, Issue 2, and include in the report the total hours TIS on the airplane and the type of operation. You may use the contact information found in paragraph (h) of this AD to contact GA 8 Airvan (Pty) Ltd. To contact CASA, use the online CASA Defect Reporting Service at the following internet address: https://drs.casa.gov.au/.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must instead be accomplished using a method approved by the Manager, Small Airplane Standards Branch, FAA; or CASA.

(3) Reporting Requirements: A federal agency may not conduct or sponsor, and a person is not required to respond to, nor shall a person be subject to a penalty for failure to comply with a collection of information subject to the requirements of the Paperwork Reduction Act unless that collection of information displays a currently valid OMB Control Number. The OMB Control Number for this information collection is 2120-0731. Public reporting for this collection of information is estimated to be approximately 1 hour per response, including the time for reviewing instructions, searching existing data sources, gathering and maintaining the data needed, completing and reviewing the collection of information. All responses to this collection of information are voluntary; the nature and extent of confidentiality to be provided, if any. Send comments regarding this burden estimate or any other aspect of this collection of information, including suggestions for reducing this burden to: Information Collection Clearance Officer, Federal Aviation Administration, 10101 Hillwood Parkway, Fort Worth, TX 76177-1524.

(h) Related Information

Refer to MCAI issued by CASA, AD No. AD/GA8/9, Amendment 1, dated May 29, 2018. You may examine the MCAI on the internet at http://www.regulations.gov by searching for and locating Docket No. FAA-2018-0771. For service information related to this AD, contact GA 8 Airvan (Pty) Ltd, c/o GippsAero Pty Ltd, Attn: Technical Services, P.O. Box 881, Morwell Victoria 3840, Australia; telephone: +61 03 5172 1200; fax: +61 03 5172 1201; email: aircraft.techpubs@mahindraaerospace.com. You may review this referenced service information at the FAA, Policy and Innovation Division, 901 Locust, Kansas City, Missouri 64106. For information on the availability of this material at the FAA, call (816) 329-4148.

Issued in Kansas City, Missouri, on August 31, 2018.
Melvin J. Johnson,
Deputy Director, Policy & Innovation Division, Aircraft Certification Service.

[FR Doc. 2018-19889 Filed 9-14-18; 8:45 am]

BILLING CODE 4910-13-P